DEPARTMENT OF HEALTH AND HUMAN SERVICES

Centers for Medicare & Medicaid Services

42 CFR Parts 403, 405, 410, 411, 412, 413, 414, 425, 489, 495, and 498

[CMS-1612-F2]

RIN 0938-AS12

Medicare Program; Revisions to Payment Policies Under the Physician Fee Schedule, Clinical Laboratory Fee Schedule, Access to Identifiable Data for the Center for Medicare and Medicaid Innovation Models & Other Revisions to Part B for CY 2015; Corrections

AGENCY: Centers for Medicare & Medicaid Services (CMS), HHS.

ACTION: Final rule; correcting amendment.

SUMMARY: This document corrects technical errors that appeared in the final rule with comment period published in the November 13, 2014 Federal Register (79 FR 67547-68092) entitled, “Medicare Program; Revisions to Payment Policies under the Physician Fee Schedule, Clinical Laboratory Fee Schedule, Access to Identifiable Data for the Center for Medicare and Medicaid Innovation Models & Other Revisions to Part B for CY 2015.” The effective date for the rule was January 1, 2015.

DATES: Effective date: This correcting document is effective March 19, 2015. Applicability date: The corrections indicated in this document are applicable beginning January 1, 2015.

FOR FURTHER INFORMATION CONTACT: Christine Estella, (410) 786-0485, for issues related to the physician quality reporting system. Donta Henson, (410) 786-1947 for all other issues.

SUPPLEMENTARY INFORMATION:

I. Background

In FR Doc. 2014-26183 (79 FR 67547 through 68092) the final rule entitled, “Medicare Program; Revisions to Payment Policies under the Physician Fee Schedule, Clinical Laboratory Fee Schedule, Access to Identifiable Data for the Center for Medicare and Medicaid Innovation Models & Other Revisions to Part B for CY 2015” (hereinafter referred to as the CY 2015 PFS final rule with comment period), there were a number of technical errors that are identified and corrected in section IV., Correction of Errors. These corrections are applicable as of January 1, 2015. We note that the Addenda B and C to the CY 2015 PFS final rule with comment period as corrected by this correction document are available on the CMS Web site at www.cms.gov/PhysicianFeeSched/.

II. Summary of Errors

A. Summary of Errors in the Preamble

On page 67559, due to errors made in ratesetting, many of the values contained in Table 4: Calculation of PE RVUs Under Methodology for Selected Codes, are incorrect.

On page 67562, in Table 8: Codes Affected by Removal of Film Inputs, we inadvertently included CPT codes 93320, 93321, and 93325.

On page 67591, we incorrectly stated that in section II. G. of the rule, we address the interim final values and establish CY 2015 inputs for the lower gastrointestinal procedures.

On page 67612, in Table 14: Codes Reviewed by the 2014 Multi-Specialty Refinement Panel, the work RVUs for CPT codes 43204, 43205, and 43233 are incorrect.

On page 67633, due to a typographical error we referred to CPT code 41391 rather than CPT code 43391.

On page 67636, due to a technical error, the final work RVU for code 43278 is incorrect.

On pages 67651 through 67663, in Table 25: CY 2015 Interim Final Work RVUS For New/Revised or Potentially Misvalued Codes, the RUC/HCPAC recommended work RVUs listed on page 67658 for CPT codes 76932 and 76948 are incorrect and entries for CPT codes 76940 and 76965 were inadvertently omitted from the table.

On page 67660, the RUC/HCPAC recommended work RVU listed for CPT code 92545 is incorrect.

On page 67668,

a. We inadvertently omitted G0279 from the list of codes in the title of (13).

b. Due to a typographical error, G0279 is referred to as G-2079.

c. We inadvertently omitted the phrase “, whether or not a 2-D mammography is furnished” from the sentence beginning, “In addition, we are creating . . .”

On page 67669, we inadvertently listed CPT code 93644 in the title of (18).

On page 67671, in Table 28: CY 2015 Interim Final Codes with Direct PE Input Recommendations Accepted without Refinement, we inadvertently listed CPT code 31620.

On page 67673, in Table 29: Invoices Received for New Direct PE Inputs we inadvertently listed entries associated with CPT code 31620.

On page 67674, in Table 30: Invoices Received For Existing Direct PE Inputs, certain PE direct inputs for CPT code 31627 were inadvertently omitted.

On pages 67678 through 67711, in Table 31: CY 2015 Interim Final Codes With Direct PE Input Recommendations Accepted with Refinements, due to technical errors, on page 67678, entries associated with CPT codes 77061 and 77062 were inadvertently listed; on page 67702, entries associated with CPT codes 93320, 93321, and 93325 were inadvertently omitted and an input code for CPT code 93880 was inadvertently omitted.

On page 67726, we incorrectly stated that practitioners do not have to use any “specific content exchange standard.”

On pages 67741 through 67742, we incorrectly stated the CY 2015 PFS conversion factors.

On page 67742, in Table 45: Calculation of the CY 2015 PFS CF, due to corrections being made in this document, the CY 2014 budget neutrality adjustment, the CY 2015 CFs, and the percentage changes from the CY 2014 CF stated in the table are incorrect.

On page 67743, due to technical errors, the budget neutrality factor, the anesthesia CF in effect from January 1, 2015 through March 31, 2015, and the anesthesia CF in effect from April 1, 2015 through December 31, 2015 are incorrectly stated. The entries in Table 46: Calculation of the CY 2015 Anesthesia CF for budget neutrality adjustments, CFs and percentage change are inaccurate.

On pages 67803 and 67804, in Table 52: Individual Quality Cross-Cutting Measures for the PQRS to Be Available for Satisfactory Reporting Via Claims, Registry, and EHR Beginning in 2015, we inadvertently listed the incorrect National Quality Strategy (NQS) domain for Physician Quality Reporting System (PQRS) Measure 131, Pain Assessment and Follow-Up.

On pages 67848 and 67849, in Table 55: Measures Being Removed from the Existing PQRS Measure Set Beginning in 2015, we inadvertently omitted adding an “X” to the claims reporting option for Physician Quality Reporting System (PQRS) Measure 0091/051: Chronic Obstructive Pulmonary Disease (COPD): Spirometry Evaluation, Measure 0102/052: Chronic Obstructive Pulmonary Disease (COPD): Inhaled Bronchodilator Therapy, and Measure 0050/109: Osteoarthritis (OA) Function and Pain Assessment.

On page 67854, in Table 56: Existing Individual Quality Measures and Those Included in Measures Groups for the PQRS for Which Measure Reporting Updates Will Be Effective Beginning in 2015, we inadvertently added an “X” to the Group Practice Reporting Option (GPRO) Web Interface reporting option for Physician Quality Reporting System (PQRS) Measure 0067/006: Coronary Artery Disease (CAD): Antiplatelet Therapy.

On page 67877, in Table 56: Existing Individual Quality Measures and Those Included in Measures Groups for the PQRS for Which Measure Reporting Updates Will Be Effective Beginning in 2015, we inadvertently added an “X” to the claims reporting option and omitted adding an “X” to the registry reporting option for Physician Quality Reporting System (PQRS) Measure 0409/205: HIV/AIDS: Sexually Transmitted Disease Screening for Chlamydia, Gonorrhea, and Syphilis.

On page 67988, in Table 93: CY 2015 PFS Final Rule with Comment Period Estimated Impact Table: Impacts of Work, Practice Expense, and Malpractice RVUs, due to ratesetting errors, the values are inaccurate.

On page 67991 through 67992, in Table 94: Impact of the Final Rule with Comment Period on CY 2014 Payment for Selected Procedures, due to ratesetting errors, the stated payment rates are inaccurate.

On page 67999, the January 1-March 31, 2015 CF, the CY 2015 national payment amount in the nonfacility setting for CPT code 99203, and the beneficiary coinsurance amount are incorrect.

B. Summary and Correction of Errors in the Addenda on the CMS Web Site

Due to the errors identified and summarized in section II.A and B of this correction document, we are correcting errors in the work, PE or MP RVUs (or combinations of these RVUs) in Addendum B: CY 2015 Relative Value Units (RVUs) And Related Information Used In Determining Final Medicare Payments and Addendum C: CY 2015 Interim Final Relative Value Units (RVUs). We note that corrections to the RVUs for codes with identified errors affect additional codes due to the budget neutrality and relativity of the PFS. These errors are corrected in the revised Addenda B and C available on the CMS Web site at www.cms.gov//PhysicianFeeSched/.

In addition to the errors identified in section II.A. of this correction document, the following errors occur in the addenda.

Due to a technical error in the creation of the direct PE database, nonfacility PE RVUs were created and displayed in Addendum B (and Addendum C, if applicable) for the following CPT codes: 21811, 21812, 21813, 22858, 33418, 33951, 33952, 33953, 33954, 33955, 33956, 33957, 33958, 33959, 33962, 33963, 33964, 33965, 33966, 33969, 33984, 33985, 33986, 33987, 33988, 33989, 37218, 43180, 44380, 44382, 66179, and 66184. These errors are corrected in the revised Direct PE Input Database available on the CMS Web site at www.cms.gov//PhysicianFeeSched/. Resulting changes to the PE RVUs are reflected in the corrected Addendum B (and Addendum C, if applicable) available on the CMS Web site at www.cms.gov//PhysicianFeeSched/.

Due to technical errors in the creation of the direct PE database, some or all of the PE inputs were inadvertently omitted for CPT codes 22510, 22511, 22512, 22513, 22514, 22515, 31620, 33951, 33952, 33953, 33954, 33955, 33956, 33957, 33958, 33959, 33962, 33963, 33964, 33969, 33984, 33985, 33986, 33988, 33989, 58541, 58542, 58543, 58544, 58570, 58571, 58572, 64486, 64487, 64488, 64489, 70496, 70498, 76700, 76705, 77080, 88348, 93260, 93261, and 93644. These errors are corrected in the revised Direct PE Input Database available on the CMS Web site at www.cms.gov//PhysicianFeeSched/.

Due to technical errors in the creation of the direct PE database, the incorrect inputs were used for creating PE RVUs for CPT codes 20982, 31620, 31627, 32998, 33262, 32998, 41530, 50592, 64600, 64605, 64610, 64633, 64634, 64635, 64636, 93925, 93880, and 93990. These errors are corrected in the revised Direct PE Input Database available on the CMS Web site at www.cms.gov//PhysicianFeeSched/.

Due to a technical error, we incorrectly displayed in Addenda B and C PE RVUs in a nonfacility setting for CPT codes 33270, 33271, 33272, and 33273. The PE RVUs for these codes in a non-facility setting have been removed in the corrected Addenda B and C available on the CMS Web site at www.cms.gov//PhysicianFeeSched/.

Due to a technical error, HCPCS codes 33330, 33474, 61610, and 61870 were inadvertently left out of Addendum B. These codes are reflected in the corrected Addendum B available on the CMS Web site at www.cms.gov//PhysicianFeeSched/.

Due to a technical error, the average risk factor, and not the specialty risk factor that we indicated that we were using in the preamble, was applied when calculating the MP RVUs for CPT codes 33620 and 33622. As a result, the MP RVUs listed in Addendum B are incorrect for these codes. We have corrected these errors in the corrected Addendum B available on the CMS Web site at www.cms.gov//PhysicianFeeSched/.

Due to a technical error, the incorrect work RVUs were applied in calculating the MP RVUs for CPT codes 33418 and 33419. As a result, the MP RVUs listed in Addenda B and C are incorrect for these codes. We have corrected these errors in the corrected Addenda B and C available on the CMS Web site at www.cms.gov//PhysicianFeeSched/.

Due to a technical error, the incorrect CY 2015 work RVUs are included in Addendum B (and Addendum C, if applicable) for the following codes: 43191, 43192, 43193, 43194, 43195, 43196, 43197, 43198, 43200, 43201, 43202, 43204, 43205, 43211, 43212, 43214, 43215, 43229, 43232, 43233, 43235, 43236, 43238, 43239, 43242, 43247, 43253, 43254, 43257, 43266, 43270, 43274, 43276, 43278, 58541, 58542, 58543, 58544, 58570, 58571, 58572, 58573, 71275, 76930, 76932, 76948, 92545, 93315, 93317, 93318, and 95973. The correct CY 2015 work RVUS for these codes are reflected in the corrected Addenda B and C available on the CMS Web site at www.cms.gov//PhysicianFeeSched/.

Due to a technical error in the creation of the direct PE database, PE RVUs for the facility setting were created and are displayed in Addendum B for HCPCS code 77372 and Addenda B and C for HCPCS code G0277. These technical errors are corrected in Addenda B and C available on the CMS Web site at www.cms.gov//PhysicianFeeSched/.

Due to technical errors in the creation of the direct PE database, direct PE inputs were inadvertently included for CPT code 99183 and are reflected in the PE RVUs shown in Addenda B and C. This error is corrected in the Direct PE Input Database available on the CMS Web site at www.cms.gov//PhysicianFeeSched/. The corrected PE RVUS are included in Addenda B and C available on the CMS Web site at www.cms.gov//PhysicianFeeSched/.

Due to a technical error, in Addendum B, work and MP RVUs for CPT codes 99487 and 99489 were inadvertently included. The work and MP RVUs for these codes have been removed in the corrected Addendum B available on the CMS Web site at www.cms.gov//PhysicianFeeSched/.

Due to a technical error in the creation of the direct PE database, PE RVUs were not created for CPT code 99490 in the facility setting. The correct PE RVU for this code is reflected in the corrected Addendum B available on the CMS Web site at www.cms.gov//PhysicianFeeSched/.

Due to a technical error, HCPCS codes G9407 through G9472 are inadvertently included in Addendum B. These codes have been removed in the corrected Addendum B available on the CMS Web site at www.cms.gov//PhysicianFeeSched/.

C. Summary of Errors in the Regulations Text

On page 68002 of the CY 2015 PFS final rule with comment period, we made a technical error in § 410.26(b)(5). In this paragraph, we inadvertently omitted language to limit the applicability of the exception that allows general, rather than direct, supervision of transitional care management services furnished incident to a practitioner's professional services to the non-face-to-face aspects of the service.

III. Waiver of Proposed Rulemaking and Delay in Effective Date

Under 5 U.S.C. 553(b) of the Administrative Procedure Act (APA), the agency is required to publish a notice of the proposed rule in the Federal Register before the provisions of a rule take effect. Similarly, section 1871(b)(1) of the Act requires the Secretary to provide for notice of the proposed rule in the Federal Register and provide a period of not less than 60 days for public comment. In addition, section 553(d) of the APA, and section 1871(e)(1)(B)(i) of the Act mandate a 30-day delay in effective date after issuance or publication of a rule. Sections 553(b)(B) and 553(d)(3) of the APA provide for exceptions from the notice and comment and delay in effective date APA requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal rulemaking requirements for good cause if the agency makes a finding that the notice and comment process are impracticable, unnecessary, or contrary to the public interest. In addition, both section 553(d)(3) of the APA and section 1871(e)(1)(B)(ii) of the Act allow the agency to avoid the 30-day delay in effective date where such delay is contrary to the public interest and an agency includes a statement of support.

In our view, this correction document does not constitute a rulemaking that would be subject to these requirements. This correction document corrects technical errors in the CY 2015 PFS final rule with comment period and the corresponding addenda posted on the CMS Web site. The corrections contained in this document are consistent with, and do not make substantive changes to, the policies and payment methodologies that were adopted subjected to notice and comment procedures in the CY 2015 PFS final rule with comment period. As a result, the corrections made through this correction document are intended to ensure that the CY 2015 PFS final rule with comment period accurately reflects the policies adopted in that rule.

Even if this were a rulemaking to which the notice and comment and delayed effective date requirements applied, we find that there is good cause to waive such requirements. Undertaking further notice and comment procedures to incorporate the corrections in this document into the CY 2015 PFS final rule with comment period or delaying the effective date of the corrections would be contrary to the public interest because it is in the public interest to ensure that the CY 2015 PFS final rule with comment period accurately reflects our final policies as soon as possible following the date they take effect. Further, such procedures would be unnecessary, because we are not altering the payment methodologies or policies, but rather, we are simply correcting the Federal Register document to reflect the policies that we previously proposed, received comment on, and subsequently finalized. This correcting document is intended solely to ensure that the CY 2015 PFS final rule with comment period accurately reflects these policies. For these reasons, we believe there is good cause to waive the requirements for notice and comment and delay in effective date.

IV. Correction of Errors

In FR Doc. 2014-26183 of November 13, 2014 (79 FR 67547), make the following corrections:

A. Correction of Errors in the Preamble

1. On page 67559, in Table 4: Calculation of PE RVUs Under Methodology for Selected Codes, the table is corrected to read as follows:

Table 4—Calculation of PR RVUs Under Methodology for Selected Codes
Factor (CF) (2nd part) | Step | Source | Formula | 99213 Office visit, est non-facility | 33533 CABG, arterial, single facility | 71020 Chest x-ray non-facility | 71020-TC Chest x-ray, non-facility | 71020-26 Chest x-ray, non-facility | 93000 ECG, complete, non-facility | 93005 ECG, tracing, non-facility | 93010 ECG, report non-facility
(1) Labor cost (Lab) | Step 1 | AMA |  | 13.32 | 77.52 | 5.74 | 5.74 | 0 | 5.1 | 5.1 | 0
(2) Supply cost (Sup) | Step 1 | AMA |  | 2.98 | 7.34 | 0.53 | 0.53 | 0 | 1.19 | 1.19 | 0
(3) Equipment cost (Eqp) | Step 1 | AMA |  | 0.17 | 0.58 | 6.92 | 6.92 | 0 | 0.09 | 0.09 | 0
(4) Direct cost (Dir) | Step 1 |  | '%=(1)+(2)+(3) | 16.48 | 85.45 | 13.19 | 13.19 | 0 | 6.38 | 6.38 | 0
(5) Direct adjustment (Dir. Adj.) | Steps 2-4 | See footnote * |  | 0.5953 | 0.5953 | 0.5953 | 0.5953 | 0.5953 | 0.5953 | 0.5953 | 0.5953
(6) Adjusted Labor | Steps 2-4 | '%=Labor * Dir Adj | '%=(1) * (5) | 7.93 | 46.15 | 3.42 | 3.42 | 0 | 3.04 | 3.04 | 0
(7) Adjusted Supplies | Steps 2-4 | '%=Eqp * Dir Adj | '%=(2) * (5) | 1.78 | 4.37 | 0.32 | 0.32 | 0 | 0.71 | 0.71 | 0
(8) Adjusted Equipment | Steps 2-4 | '%=Sup * Dir Adj | '%=(3) * (5) | 0.1 | 0.35 | 4.12 | 4.12 | 0 | 0.05 | 0.05 | 0
(9) Adjusted Direct | Steps 2-4 |  | '%=(6)+(7)+(8) | 9.81 | 50.87 | 7.85 | 7.85 | 0 | 3.8 | 3.8 | 0
(10) Conversion Factor (CF) | Step 5 | PFS |  | 35.8228 | 35.8228 | 35.8228 | 35.8228 | 35.8228 | 35.8228 | 35.8228 | 35.8228
(11) Adj. labor cost converted | Step 5 | '%=(Lab * Dir Adj)/CF | '%=(6)/(10) | 0.22 | 1.29 | 0.1 | 0.1 | 0 | 0.08 | 0.08 | 0
(12) Adj. supply cost converted | Step 5 | '%=(Sup * Dir Adj)/CF | '%=(7)/(10) | 0.05 | 0.12 | 0.01 | 0.01 | 0 | 0.02 | 0.02 | 0
(13) Adj. equipment cost converted | Step 5 | '%=(Eqp * Dir Adj)/CF | '%=(8)/(10) | 0 | 0.01 | 0.11 | 0.11 | 0 | 0 | 0 | 0
(14) Adj. direct cost converted | Step 5 |  | '%=(11)+(12)+(13) | 0.27 | 1.42 | 0.22 | 0.22 | 0 | 0.11 | 0.11 | 0
(15) Work RVU | Setup File | PFS |  | 0.97 | 33.75 | 0.22 | 0 | 0.22 | 0.17 | 0 | 0.17
(16) Dir_pct | Steps 6,7 | Surveys |  | 0.25 | 0.17 | 0.29 | 0.29 | 0.29 | 0.29 | 0.29 | 0.29
(17) Ind_pct | Steps 6,7 | Surveys |  | 0.75 | 0.83 | 0.71 | 0.71 | 0.71 | 0.71 | 0.71 | 0.71
(18) Ind. Alloc. Formula (1st part) | Step 8 | See Step 8 |  | (14)/(16) * (17) | (14)/(16) * (17) | (14)/(16) * (17) | (14)/(16) * (17) | (14)/(16) * (17) | (14)/(16) * (17) | (14)/(16) * (17) | (14)/(16) * (17)
(19) Ind. Alloc. (1st part) | Step 8 |  | See 18 | 0.83 | 6.73 | 0.53 | 0.53 | 0 | 0.26 | 0.26 | 0
(20) Ind. Alloc. Formula (2nd part) | Step 8 | See Step 8 |  | −15% | −15% | %(15+11) | −11% | −15% | %(15+11) | −11% | −15%
(21) Ind. Alloc. (2nd part) | Step 8 |  | See 20 | 0.97 | 33.75 | 0.32 | 0.1 | 0.22 | 0.25 | 0.08 | 0.17
(22) Indirect Allocator (1st + 2nd) | Step 8 |  | '%=(19)+(21) | 1.8 | 40.48 | 0.85 | 0.63 | 0.22 | 0.52 | 0.35 | 0.17
(23) Indirect Adjustment (Ind. Adj.) | Steps 9-11 | See Footnote * * |  | 0.3829 | 0.3829 | 0.3829 | 0.3829 | 0.3829 | 0.3829 | 0.3829 | 0.3829
(24) Adjusted Indirect Allocator | Steps 9-11 | '%=Ind Alloc * Ind Adj |  | 0.69 | 15.5 | 0.33 | 0.24 | 0.08 | 0.2 | 0.13 | 0.07
(25) Ind. Practice Cost Index (IPCI) | Steps 12-16 |  |  | 1.07 | 0.75 | 0.99 | 0.99 | 0.99 | 0.91 | 0.91 | 0.91
(26) Adjusted Indirect | Step 17 | '%= Adj.Ind Alloc * PCI | '%=(24) * (25) | 0.74 | 11.64 | 0.32 | 0.24 | 0.08 | 0.18 | 0.12 | 0.06
(27) Final PE RVU | Step 18 | '%=(Adj Dir + Adj Ind) * Other Adj | '%=((14)+(26)) * Other Adj) | 1.01 | 12.99 | 0.54 | 0.46 | 0.08 | 0.29 | 0.23 | 0.06
Note: PE RVUs in Table 4, row 27, may not match Addendum B due to rounding.
* The direct adj = [current pe rvus * CF * avg dir pct]/[sum direct inputs] = [step2]/[step3]
* * The indirect adj = [current pe rvus * avg ind pct]/[sum of ind allocators] = [step9]/[step10]
Note: The use of any particular conversion factor (CF) in Table 4 to illustrate the PE Calculation has no effect on the resulting RVUs.

2. On page 67562, in Table 8: Codes Affected by Removal of Film Inputs, the following listed entries are removed.

HCPCS | Short descriptor
93320 | Doppler echo exam heart
93321 | Doppler echo exam heart
93325 | Doppler color flow add-on

3. On page 67591, third column, first full paragraph, line 10, the sentence “In section II.G. of this CY 2015 PFS final rule with comment period, we address interim final values and establish CY 2015 inputs for the lower gastrointestinal procedures, many of which are also listed in Appendix G.” is corrected to read “In section II.G. of this CY 2015 PFS final rule with comment period, we note that we are delaying the adoption of the new code set for lower gastrointestinal procedures until CY 2016; many of these codes are also listed in Appendix G.”

4. On page 67612, in Table 14: Codes reviewed by the 2014 Multi-Specialty Refinement Panel, the entries for CPT codes 43204, 43205 and 43233 are corrected to read as follows:

HCPCS code | Descriptor | CY 2014 interim final work RVU | RUC recommended work RVU | Refinement panel median rating | CY 2015 work RVU
43204 | Injection of dilated esophageal veins using an endoscope | 2.40 | 2.89 | 2.77 | 2.43
43205 | Tying of esophageal veins using an endoscope | 2.51 | 3.00 | 2.88 | 2.54
43233 | Balloon dilation of esophagus, stomach, and/or upper small bowel using an endoscope | 4.05 | 4.45 | 4.26 | 4.17

5. On page 67633, third column, first full paragraph, line 14, the phrase “CPT code 41391,” is corrected to read “CPT code 43391,”.

6. On page 67636, third column, first partial paragraph, lines 24 through 25, the sentence “The final work RVU for CPT code 43278 is 8.” is corrected to read “The final work RVU for CPT code 43278 is 8.02.”

7. On pages 67651 through 67663, in Table 25: CY 2015 Interim Final Work RVUS For New/Revised or Potentially Misvalued Codes, the listed entries on page 67658 are corrected to read:

HCPCS code | Long descriptor | CY 2014 WRVU | RUC/HCPAC recommended work RVU | CY 2015 work RVU | CMS time refinement
76932 | Ultrasonic guidance for endomyocardial biopsy, imaging supervision and interpretation | C | 0.67 | 0.67 | No
76940 | Ultrasound guidance for, and monitoring of, parenchymal tissue ablation | 2.00 | 2.00 | 2.00 | No
76948 | Ultrasonic guidance for aspiration of ova, imaging supervision and interpretation | 0.38 | 0.38 | 0.38 | No
76965 | Ultrasonic guidance for interstitial radioelement application | 1.34 | 1.34 | 1.34 | No

8. On page 67660, in Table 25: CY 2015 Interim Final Work RVUS For New/Revised or Potentially Misvalued Codes, the listed entry is corrected to read:

HCPCS code | Long descriptor | CY 2014 WRVU | RUC/HCPAC recommended work RVU | CY 2015 work RVU | CMS time refinement
92545 | Oscillating tracking test, with recording | 0.23 | 0.25 | 0.25 | No

9. On page 67668,

a. First column, line 1, the title “(13) Breast Tomosynthesis (CPT codes 77061, 77062, and 77063)” is corrected to read “(13) Breast Tomosynthesis (CPT codes 77061, 77062, 77063 and G2079)”.

b. Second column, line 19, the phrase “a new code, G-2079” is corrected to read “a new code, G0279”.

c. Second column, line 27, is corrected by adding “whether or not a 2-D mammography is furnished” after the phrase “diagnostic breast tomosynthesis”.

10. On page 67669, second column, lines 8 through 11, we are correcting the title “(18) Interventional Transesophageal Echocardiography (TEE) (CPT Codes 93312, 93313, 93314, 93315, 93316, 93317, 93318, 93355, and 93644)” to read “(18) Interventional Transesophageal Echocardiography (TEE) (CPT Codes 93312, 93313, 93314, 93315, 93316, 93317, 93318, and 93355).”

11. On page 67671, in Table 28: CY 2015 Interim Final Codes with Direct PE Input Recommendations Accepted without Refinements, the following listed entry is removed:

HCPCS | Short descriptor
31620 | Endobronchial us add-on

12. On page 67673, in Table 29: Invoices Received for New Direct PE Inputs, the following listed entries for CPT code 31620 are removed:

CPT/HCPCS codes | Item name | CMS code | Average price | Number of invoices | Non-facility allowed services for HCPCS codes using this item (or projected services for new CPT codes*)
31620 | Flexible dual-channeled EBUS bronchoscope, with radial probe | EQ361 | $160,260.06 | 6 | 107
31620 | Video system, Ultrasound (processor, digital capture, monitor, printer, cart) | ER099 | $13,379.57 | 6 | 107
31620 | EBUS, single use aspiration needle, 21 g | SC102 | $145.82 | 5 | 107
31620 | Balloon for Bronchosopy Fiberscope | SD294 | $28.68 | 4 | 107

13. On page 67674, Table 30: Invoices Received for Existing Direct PE Inputs, the list entries for CPT code 31627 are corrected by adding the following:

CPT/HCPCS codes | Item name | CMS code | Current price | Updated price | % Change | Number of invoices | Non-facility allowed services for HCPCS codes using this item
31627 | sensor, patch, bronchosopy (for kit, locatable guide) (patient) | SD235 | $1.10 | $3.00 | 173 | 2 | 37
31627 | system, navigational bronchoscopy (superDimension) | EQ326 | $137,800.00 | $189,327.66 | 37 | 4 | 37
31627 | kit, locatable guide, ext. working channel, w-b-scope adapter | SA097 | $995.00 | $1,063.67 | 7 | 3 | 37

14. On pages 67678 through 67711, in Table 31: CY 2015 Interim Final Codes With Direct PE Input Recommendations Accepted with Refinements, we are correcting the table by

a. On page 67687, deleting the following listed entries:

b. On page 67702, correcting the bottom half of the table to read:

15. On page 67726, first column, second full paragraph, lines 6 through 8, the phrase “with a clarification that practitioners do not have to use any specific content exchange standard in CY 2015.” is corrected to read “with a clarification that practitioners do not have to use any specific exchange or transfer standard in CY 2015.”

16. On page 67741, first column, first paragraph, we are correcting the entire paragraph to read:

The CY 2015 PFS CF for January 1, 2015 through March 31, 2015 is $35.7547. The CY 2015 PFS CF for April 1, 2015 through December 31, 2015 is $28.1872. The CY 2015 national average anesthesia CF for January 1, 2015 through March 31, 2015 is $22.4968. The CY 2015 national average anesthesia CF for April 1, 2015 through December 31, 2015 is $17.7454.

17. On page 67742, third column, first partial paragraph,

a. Line 3, the phrase “by 0.06 percent” is corrected to read “by 0.19 percent”.

b. Third column, first full paragraph, line 8, the figure “$35.8013.” is corrected to read “$35.7547.”

c. Third column, second full paragraph, line 6, the figure “$28.2239.” is corrected to read “$28.1872.”

d. Third column, second full paragraph, line 9, the phrase “21.2 percent” is corrected to read “21.3 percent”.

18. On page 67742, in Table 45: Calculation of the CY 2015 PFS CF, the table is corrected to read as follows:

Table 45—Calculation of the CY 2015 PFS CF
January 1, 2015 through March 31, 2015
Conversion Factor in effect in CY 2014 |  | $35.8228
Update | 0.0 percent (1.00) |
CY 2015 RVU Budget Neutrality Adjustment | −0.19 percent (0.9981) |
CY 2015 Conversion Factor (1/1/2015 through 3/31/2015) |  | $35.7547
April 1, 2015 through December 31, 2015
Conversion Factor in effect in CY 2014 |  | $35.8228
CY 2014 Conversion Factor had statutory increases not applied |  | $27.2006
CY 2015 Medicare Economic Index | 0.8 percent (1.008) |
CY 2015 Update Adjustment Factor | 3.0 percent (1.03) |
CY 2015 RVU Budget Neutrality Adjustment | −0.19 percent (0.9981) |
CY 2015 Conversion Factor (4/1/2015 through 12/31/2015) |  | $28.1872
Percent Change in Conversion Factor on 4/1/2015 (relative to the CY 2014 CF) |  | −21.3%
Percent Change in Update (without budget neutrality adjustment) on 4/1/2015 (relative to the CY 2014 CF) |  | −21.2%

19. On page 67743,

a. First column, first full paragraph, line 5, the sentence “After applying the 0.9994 budget” is corrected to read “After applying the 0.9981 budget”.

b. Second column, line 2, the figure “$22.5550.” is corrected to read “$22.4968.”

c. Third column, line 12, the figure “$17.7913.” is corrected to read “$17.7454.”

d. Table 46: Calculation of the CY 2015 Anesthesia CF is corrected to read as follows:

Table 46—Calculation of the CY 2015 Anesthesia CF
January 1, 2015 through March 31, 2015
CY 2014 National Average Anesthesia CF |  | $22.6765
Update | 0.0 percent (1.00) |
CY 2015 RVU Budget Neutrality Adjustment | −0.19 percent (0.9981) |
CY 2015 Anesthesia Fee Schedule Practice Expense Adjustment | −0.00494 percent (0.99506) |
CY 2015 National Average Anesthesia CF (1/1/2015 through 3/31/2015) |  | $22.4968
April 1, 2015 through December 31, 2015
2014 National Average Anesthesia Conversion Factor in effect in CY 2015 |  | $22.6765
2014 National Anesthesia Conversion Factor had Statutory Increases Not Applied |  | $17.2283
CY 2015 Medicare Economic Index | 0.8 percent (1.008) |
CY 2015 Update Adjustment Factor | 3.0 percent (1.03) |
CY 2015 Budget Neutrality Work and Malpractice Adjustment | −0.19 percent (0.9981) |
CY 2015 Anesthesia Fee Schedule Practice Expense Adjustment | −0.00494 percent (0.99506) |
CY 2015 Anesthesia Fee Schedule Practice Expense Adjustment | −0.00494 percent (0.99506) |
CY 2015 Anesthesia Conversion Factor (4/1/2015 through 12/31/2015) |  | $17.7454
Percent Change from 2014 to 2015 (4/1/2015 through 12/31/2015) |  | −21.7%

20. On page 67803, last row, in Table 52: Individual Quality Cross-Cutting Measures for the PQRS to Be Available for Satisfactory Reporting Via Claims, Registry, and EHR Beginning in 2015, the listed entry is corrected to read as follows:

BILLING CODE 4120-01-P

21. On page 67848, the last two rows, and the first row on page 67849, in Table 55: Measures Being Removed from the Existing PQRS Measure Set Beginning in 2015, the listed are corrected to read as follows:

22. On page 67854, the second row, in Table 56: Existing Individual Quality Measures and Those Included in Measures Groups for the PQRS for Which Measure Reporting Updates Will Be Effective Beginning in 2015, the listed entry is corrected to read as follows:

23. On page 67877, second row, in Table 56: Existing Individual Quality Measures and Those Included in Measures Groups for the PQRS for Which Measure Reporting Updates Will Be Effective Beginning in 2015, the listed entry is corrected to read as follows:

BILLING CODE 4120-01-C

24. On page 67988, in Table 93: CY 2015 PFS Final Rule with Comment Period Estimated Impact Table: Impacts of Work, Practice Expense, and Malpractice RVUs, the table is corrected to read as follows:

25. On page 67991 through 67992, in Table 94: Impact of Final Rule with Comment Period on CY 2015 Payment for Selected Procedures the table is corrected to read as follows:

BILLING CODE 4120-01-P

27. On page 67999, third column, first full paragraph,

a. Line 18, the figure “35.8013,” is corrected to read “35.7547,”.

b. Line 21, the figure “$109.19,” is corrected to read “$108.18,”.

c. Line 23, the phrase “this service would be $21.84.” is corrected to read “this service would be $21.74.”

List of Subjects in 42 CFR Part 410

Health facilities, Health professions, Kidney diseases, Laboratories, Medicare, Reporting and recordkeeping requirements, Rural areas, X-rays.

Accordingly, 42 CFR chapter IV is corrected by making the following correcting amendments to part 410:

PART 410—SUPPLEMENTARY MEDICAL INSURANCE (SMI) BENEFITS

1. The authority citation for part 410 continues to read as follows:

Authority: Secs. 1102, 1834, 1871, 1881, and 1893 of the Social Security Act (42 U.S.C. 1302, 1395m, 1395hh, and 1395ddd.

2. Section 410.26 is amended by revising paragraph (b)(5) to read as follows:

§ 410.26 Services and supplies incident to a physician's professional services: Conditions.

* * * * *

(b) * * *

(5) In general, services and supplies must be furnished under the direct supervision of the physician (or other practitioner). Chronic care management services and transitional care management services (other than the required face-to-face visit) can be furnished under general supervision of the physician (or other practitioner) when they are provided by clinical staff incident to the services of a physician (or other practitioner). The physician (or other practitioner) supervising the auxiliary personnel need not be the same physician (or other practitioner) upon whose professional service the incident to service is based.

* * * * *

Dated: March 13, 2015.
C'Reda Weeden,
Executive Secretary to the Department, Department of Health and Human Services.

[FR Doc. 2015-06427 Filed 3-19-15; 8:45 am]

BILLING CODE 4120-01-C